COMMODITY FUTURES TRADING COMMISSION

Sunshine Act Meetings

Time and Date: 11 a.m., December 18, 2009.

Place: 1155 21st St., NW., Washington, DC, 9th Floor Commission Conference Room.

Status: Closed.

Matters To Be Considered: Surveillance Matters.

FOR FURTHER INFORMATION CONTACT: Sauntia S. Warfield, 202-418-5084.

Sauntia S. Warfield,
Assistant Secretary of the Commission.

[FR Doc. E9-28840 Filed 11-27-09; 4:15 pm]

BILLING CODE 6351-01-P